DEPARTMENT OF COMMERCE

National Oceanic and Atmospheric Administration

50 CFR Part 622

[I.D. 051501D]

Fisheries of the Caribbean, Gulf of Mexico, and South Atlantic; Amendment 5 to the Fishery Management Plan for the Shrimp Fishery off the Southern Atlantic States

AGENCY: National Marine Fisheries Service (NMFS), National Oceanic and Atmospheric Administration (NOAA), Commerce.

ACTION: Notice of intent to prepare a draft supplemental environmental impact statement (DSEIS); request for comments.

SUMMARY: The South Atlantic Fishery Management Council (Council) intends to prepare a DSEIS to assess the impacts on the natural and human environment of management measures proposed in its draft Amendment 5 to the Fishery Management Plan for the Shrimp Fishery of the South Atlantic Region (FMP). The purpose of this document is to solicit public comments on the scope of the issues to be addressed in the DSEIS and to provide information on the Council’s intended schedule for completing the DSEIS and submitting it to NMFS for filing and for further public comment.

DATES: Written comments on the scope of the issues to be addressed by the DSEIS for draft Amendment 5 must be received by the Council by June 25, 2001.

ADDRESSES: Written comments on the scope of the DSEIS and requests for additional information on the management measures proposed in draft Amendment 5 should be sent to the South Atlantic Fishery Management Council, One Southpark Circle, Suite 306, Charleston, SC 29407-4699; phone: 843-571-4366; fax: 843-769-4520; e-mail: Kim.Iverson@noaa.gov or Robert.Mahood@noaa.gov.

FOR FURTHER INFORMATION CONTACT: Kim Iverson, 843-571-4366, or Dr. Peter Eldridge, NMFS, 727-570-5305.

SUPPLEMENTARY INFORMATION: Management measures for rock shrimp under the FMP apply in the exclusive economic zone (EEZ) in the South Atlantic. For the purposes of the FMP and its implementing regulations, the South Atlantic consists of the Atlantic Ocean off the southern Atlantic states (i.e., from the Virginia/North Carolina border through the Florida Keys). The FMP currently establishes the following management measures for rock shrimp: Federal fishing vessel permits necessary to fish for, sell, transfer, or possess rock shrimp in or from the South Atlantic EEZ; Federal dealer permits to receive rock shrimp harvested in the South Atlantic EEZ; requirement for selected dealers to report receipts and prices of rock shrimp harvested from the South Atlantic EEZ; and a prohibition on fishing for or possessing rock shrimp in or from the Oculina Bank habitat area of particular concern.

The Council is preparing draft Amendment 5 to the FMP. Amendment 5 will address the following issues: (1) The implementation of a limited entry program for the rock shrimp fishery to remove speculative interests from the fishery and ensure the economic viability of the rock shrimp industry; (2) the establishment of mesh size restrictions to reduce the harvest of small rock shrimp; (3) the requirement for vessel operator permits and vessel monitoring systems to ensure better compliance with the FMP’s management measures and implementing regulations; and (4) the specification of geographic areas within which these aforementioned management measures would apply.

The Council is preparing a DSEIS as an integrated part of Amendment 5. The DSEIS will describe the amendment’s proposed management measures and their reasonable alternatives and will assess the environmental impacts of these proposed and alternative measures. The Council is requesting written comments on the scope of the issues to be addressed in the DSEIS.

Based on input to be received during 7 public hearings that the Council is conducting from May 3, 2001, through June 19, 2001 (see notice of these hearings at 66 FR 22144) on a preliminary draft of Amendment 5 and associated DSEIS, the Council intends to revise draft Amendment 5, as appropriate, and to finalize the DSEIS. The Council intends that the current public hearings on its preliminary draft Amendment 5 and DSEIS supplement, for scoping purposes, the three scoping meetings it held in 1994 to invite initial public input on the scope of the issues to be addressed by Amendment 5 and the types of environmental impacts associated with alternative management measures, including those proposed measures listed here. With the exception of the requirement for operator permits, which was disapproved by NMFS as contained in a previous FMP amendment, these management measures have not been included in a previous FMP amendment.

Once the Council completes the DSEIS, it will submit it to NMFS for filing with the Environmental Protection Agency (EPA). EPA will publish in the Federal Registera notice of availability of the DSEIS for public comment. This procedure is pursuant to the Council on Environmental Quality's regulations for implementing the procedural provisions of the National Environmental Policy Act (NEPA) (40 CFR parts 1500-1508) and to NOAA's Administrative Order 216-6 regarding NOAA's compliance with NEPA and the CEQ regulations.

The Council intends to consider public comments received on the DSEIS before adopting final management measures for a final Amendment 5. The Council intends to prepare a final supplemental environmental impact statement (FSEIS) in support of its final Amendment 5. The Council would then submit the final Amendment 5 and supporting FSEIS to NMFS for Secretarial review, approval, and implementation under the Magnuson-Stevens Fishery Conservation and Management Act. NMFS will announce availability of Amendment 5 for public review during the Secretarial review period though notice published in the Federal Register. During Secretarial review, NMFS will also file the FSEIS with EPA for a final public comment period on the FSEIS. This comment period will be concurrent with the Secretarial review period and will end prior to final agency action to approve, disapprove, or partially approve Amendment 5. All public comment periods on Amendment 5, its proposed implementing regulations, and on its associated FSEIS will be announced through notice published in the Federal Register. NMFS will consider all public comments received during the Secretarial review period for Amendment 5 (60-day period), whether they are on the amendment, the FSEIS, or the proposed regulations, prior to final agency action.

Copies of the preliminary draft Amendment 5/DSEIS may be obtained by contacting the Council (see ADDRESSES).

Authority: 16 U.S.C. 1801 et seq.

Dated: May 17, 2001.
Bruce C. Morehead,
Acting Director, Office of Sustainable Fisheries, National Marine Fisheries Service.

[FR Doc. 01-13072 Filed 5-18-01; 3:57 pm]

BILLING CODE 3510-22-S